DEPARTMENT OF ENERGY

Federal Energy Regulatory Commission

[Docket No. ER98-4512-002, et al.]

Consolidated Water Power Company, et al.; Electric Rate and Corporate Regulation Filings

January 7, 2002.

Take notice that the following filings have been made with the Commission. Any comments should be submitted in accordance with Standard Paragraph E at the end of this notice.

1. Consolidated Water Power Company

[Docket No. ER98-4512-002]

Take notice that on December 27, 2001, Consolidated Water Power Company (CWPCo) tendered for filing with the Federal Energy Regulatory Commission (Commission) an updated market analysis pursuant to Commission Order.

Comment Date: January 17, 2002.

2. Cinergy Services, Inc.

[Docket No. ER02-677-000]

Take notice that on January 2, 2002, Cinergy Services, Inc. (Provider) tendered for filing a Firm Point-To-Point Service Agreement under Cinergy's Open Access Transmission Service Tariff (OATT) entered into between Provider and Cinergy Services, Inc. (Customer) (AREF# 69637578).This service agreement has a yearly firm transmission service with American Electric Power via the Gibson Unit Nos. 1-5 Generating Station.

Provider and Customer are requesting an effective date of January 1, 2002.

Comment Date: January 22, 2002.

3. Cinergy Services, Inc.

[Docket No. ER02-678-000]

Take notice that on January 2, 2002, Cinergy Services, Inc. (Provider) tendered for filing a Firm Point-To-Point Service Agreement under Cinergy's Open Access Transmission Service Tariff (OATT) entered into between Provider and Cinergy Services, Inc. (Customer) (AREF# 69637579). This service agreement has a yearly firm transmission service with American Electric Power via the Gibson Unit Nos. 1-5 Generating Station.

Provider and Customer are requesting an effective date of January 1, 2002.

Comment Date: January 22, 2002.

4. Cinergy Services, Inc.

[Docket No. ER02-679-000]

Take notice that on January 2, 2002, Cinergy Services, Inc. (Provider) tendered for filing a Firm Point-To-Point Service Agreement under Cinergy's Open Access Transmission Service Tariff (OATT) entered into between Provider and Allegheny Energy Supply Company, LLC (Customer) (OASIS# 69630559). This service agreement has a yearly firm transmission service with American Electric Power via Enron Wheatland Control Area.

Provider and Customer are requesting an effective date of January 1, 2002.

Comment Date: January 22, 2002.

5. Cinergy Services, Inc.

[Docket No. ER02-680-000]

Take notice that on January 2, 2002, Cinergy Services, Inc. (Provider) tendered for filing a Firm Point-To-Point Service Agreement under Cinergy's Open Access Transmission Service Tariff (OATT) entered into between Provider and Cinergy Services, Inc. (Customer) (AREF# 69634099). This service agreement has a yearly firm transmission service with Ameren via the Gibson Unit Nos. 1-5 Generating Station.

Provider and Customer are requesting an effective date of January 1, 2002.

Comment Date: January 22, 2002.

6. Cinergy Services, Inc.

[Docket No. ER02-681-000]

Take notice that on January 2, 2002, Cinergy Services, Inc. (Provider) tendered for filing a Firm Point-To-Point Service Agreement under Cinergy's Open Access Transmission Service Tariff (OATT) entered into between Provider and Allegheny Energy Supply Company, LLC (Customer) (OASIS# 69630557). This service agreement has a yearly firm transmission service with American Electric Power via Enron Wheatland Control Area.

Provider and Customer are requesting an effective date of January 1, 2002.

Comment Date: January 22, 2002.

7. Cinergy Services, Inc.

[Docket No. ER02-682-000]

Take notice that on January 2, 2002, Cinergy Services, Inc. (Provider) tendered for filing a Firm Point-To-Point Service Agreement under Cinergy's Open Access Transmission Service Tariff (OATT) entered into between Provider and Cinergy Services, Inc. (Customer) (AREF# 69637581). This service agreement has a yearly firm transmission service with Dayton Power & Light via the Miami Fort Generating Station.

Provider and Customer are requesting an effective date of January 1, 2002.

Comment Date: January 22, 2002.

8. Cinergy Services, Inc.

[Docket No. ER02-683-000]

Take notice that on January 2, 2002, Cinergy Services, Inc. (Provider) tendered for filing a Firm Point-To-Point Service Agreement under Cinergy's Open Access Transmission Service Tariff (OATT) entered into between Provider and Cinergy Services, Inc. (Customer) (AREF# 69652525).This service agreement has a yearly firm transmission service with Louisville Operating Companies via the Gibson Unit Nos. 1-5 Generating Station.

Provider and Customer are requesting an effective date of January 1, 2002.

Comment Date: January 22, 2002.

9. Cinergy Services, Inc.

[Docket No. ER02-684-000]

Take notice that on January 2, 2002, Cinergy Services, Inc. (Provider) tendered for filing a Firm Point-To-Point Service Agreement under Cinergy's Open Access Transmission Service Tariff (OATT) entered into between Provider and Cinergy Services, Inc. (Customer) (AREF# 69637945). This service agreement has a yearly firm transmission service with Louisville Operating Companies via the Gibson Unit Nos. 1-5 Generating Station.

Provider and Customer are requesting an effective date of January 1, 2002.

Comment Date: January 22, 2002.

10. Commonwealth Edison Company

[Docket No. ER02-685-000]

Take notice that on January 2, 2002, Commonwealth Edison Company (ComEd) submitted for filing with the Federal Energy Regulatory Commission (Commission) revised interconnection agreements between ComEd and its affiliate, Exelon Generation Company. ComEd requests an effective date for the revised interconnection agreements of January 3, 2002, and, accordingly, seeks waiver of the Commission's notice requirements. ComEd states that a copy of the filing was served on Exelon Generation Company and the Illinois Commerce Commission.

Comment Date: January 22, 2002.

11. American Transmission Company LLC

[Docket No. ER02-558-001]

Take notice that on January 2, 2002, American Transmission Company LLC (ATCLLC) tendered for filing a revised Exhibit 1 to the Generation-Transmission Interconnection Agreement (Substitute Revised Service Agreement No. 79) between ATCLLC and Wisconsin Electric Power Company.

ATCLLC requests an effective date of January 1, 2001.

Comment Date: January 22, 2002.

12. Ameren Energy, Inc. on behalf of Union Electric Company d/b/a AmerenUE and Ameren Energy Generating Company

[Docket No. ER02-674-000]

Take notice that on January 2, 2002, Ameren Energy, Inc. (Ameren Energy), on behalf of Union Electric Company d/b/a AmerenUE and Ameren Energy Generating Company (collectively, the Ameren Parties), pursuant to section 205 of the Federal Power Act, 16 U.S.C. 824d, and the market rate authority granted to the Ameren Parties, submitted for filing umbrella power sales service agreements under the Ameren Parties' market rate authorizations entered into with DTE Energy Trading, Inc. Ameren Energy seeks Commission acceptance of these service agreements effective November 21, 2001.

Copies of this filing were served on the public utilities commissions of Illinois and Missouri and the respective counterparty.

Comment Date: January 22, 2002.

13. Ameren Energy, Inc. on behalf of Union Electric Company d/b/a AmerenUE and Ameren Energy Generating Company

[Docket No. ER02-675-000]

Take notice that on December 28, 2001, Ameren Energy, Inc. (Ameren Energy), on behalf of Union Electric Company d/b/a AmerenUE and Ameren Energy Generating Company (collectively, the Ameren Parties), pursuant to section 205 of the Federal Power Act, 16 U.S.C. 824d, and the market rate authority granted to the Ameren Parties, submitted for filing umbrella power sales service agreement under the Ameren Parties' market rate authorizations entered into with TXU Energy Trading Company. Ameren Energy seeks Commission acceptance of these service agreements effective November 8, 2001.

Copies of this filing were served on the public utilities commissions of Illinois and Missouri and the respective counterparty.

Comment Date: January 22, 2002.

14. Consolidated Water Power Company

[Docket No.ER02-676-000]

Take notice that on January 2, 2002, Consolidated Water Power Company (CWP) tendered for filing with the Federal Energy Regulatory Commission (Commission) an umbrella service agreement with WPS Energy Services (WPS) under CWP's market-based rates tariff, FERC Electric Rate Schedule No. 1. CWP states that it has served the Customer with a copy of this filing.

CWP requests that the umbrella service agreement be made effective on January 1, 2002.

Comment Date: January 22, 2002.

15. Dresden Energy, LLC, Fairless Energy, LLC (formerly S.W.E.C., LLC), Armstrong Energy Limited Partnership, LLLP, Troy Energy, LLC

[Docket Nos. ER02-22-001, ER02-23-001, ER02-24-001, ER02-25-001]

Take notice that on January 3, 2002, Dresden Energy, LLC, Fairless Energy, LLC, Armstrong Energy Limited Partnership, LLLP, and Troy Energy, LLC tendered for filing with the Federal Energy Regulatory Commission (Commission) a revised Market-Based Rate Tariff, FERC Electric Tariff, Original Volume No. 1 (Revised Tariff) to comply with a letter order issued by the Commission on December 19, 2001, in the above-captioned proceedings (Letter Order). Dresden Energy, LLC, S.W.E.C., LLC, Armstrong Energy Limited Partnership, LLLP, and Troy Energy, LLC, 97 FERC ¶ 61,277 (2001). S.W.E.C., LLC changed its name to Fairless Energy, LLC and the company filing reflects the name change.

Copies of the filing were served upon the Ohio Public Service Commission, The Public Service Commission of West Virginia, The Pennsylvania Public Service Commission, and the Virginia State Corporation Commission.

Comment Date: January 24, 2002.

16. GNE, LLC

[Docket No. ER02-159-001]

Take notice that on January 3, 2002, GNE, LLC (GNE) tendered its compliance filing with the Federal Energy Regulatory Commission (Commission) to the Commission's letter order issued December 19, 2001 herein granting its application for authorization to sell electric power at market based rates.

Comment Date: January 24, 2002.

17. Mirant Delta, LLC, Mirant Potrero, LLC

[Docket No. ER02-198-001]

Take notice that on January 2, 2002, Mirant Delta, LLC and Mirant Potrero, LLC (collectively, Mirant) submitted with the Federal Energy Regulatory Commission (Commission) a filing in compliance with the Commission's directives in Mirant Delta, LLC and Mirant Potrero, LLC, 97 FERC ¶ 61,284 (2001).

Comment Date: January 23, 2002.

18. Boston Edison Company, Cambridge Electric Light Company, Commonwealth Electric Company

[Docket No. ER02-246-001]

Take notice that on January 3, 2002, Boston Edison Company (BECo), Cambridge Electric Light Company (Cambridge) and Commonwealth Electric Company (Commonwealth) (collectively, the NSTAR Companies), tendered for filing revised Market-Based Rate Tariffs, FERC Electric Tariffs, Original Volume Nos. 10, 10 and 8 respectively to comply with a letter order issued by the Commission on December 19, 2001 in the above-captioned proceedings. NSTAR Companies, 97 FERC ¶ 61,288 (2001).

The NSTAR Companies state that they served copies of the filing on the Massachusetts Department of Telecommunications and Energy.

Comment Date: January 23, 2002.

19. American Transmission Company LLC

[Docket No. ER02-285-001]

Take notice that on January 3, 2002, American Transmission Company LLC (ATCLLC) tendered for filing a Compliance Filing in association with ATCLLC's earlier filing (dated November 7, 2001) of its proposed revisions its Open Access Transmission Tariff to provide for ATCLLC's collection of must run generation costs from network customers on a phase-in basis. ATCLLC's Compliance Filing incorporates certain modifications identified in the Commission's Order conditionally accepting tariff changes proposed by ATCLLC, to be effective December 1, 2001, Wisconsin Electric Power Company, 97 FERC ¶ 61,337 (2001).

Comment Date: January 23, 2002.

20. Delmarva Power & Light Company

[Docket No. ER02-634-001]

Take notice that on January 2, 2002, Delmarva Power & Light Company (Delmarva) tendered for filing a cover sheet and a revised page 44 to supplement its December 28, 2001 filing of an executed Interconnection Agreement between Delmarva and the Delaware Municipal Electric Corporation (DEMEC).

Delmarva respectfully requests that the Interconnection Agreement with the cover sheet and revised page 44 to become effective on December 31, 2001, the date on which Delmarva originally requested the Interconnection Agreement to become effective.

Copies of the filing were served upon the Delaware Public Service Commission, the Maryland Public Service Commission and the Virginia State Corporation Commission.

Comment Date: January 22, 2002.

Standard Paragraph

E. Any person desiring to be heard or to protest such filing should file a motion to intervene or protest with the Federal Energy Regulatory Commission, 888 First Street, NE., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C. B. Spencer,
Acting Secretary.

[FR Doc. 02-697 Filed 1-10-02; 8:45 am]

BILLING CODE 6717-01-P